DEPARTMENT OF HEALTH AND HUMAN SERVICES
Centers for Medicare & Medicaid Services
42 CFR Parts 412, 413, and 424
[CMS-1213-N]
RIN 0938-AL50
Medicare Program; Prospective Payment System for Inpatient Psychiatric Facilities; Extension of Comment Period

AGENCY:
Centers for Medicare & Medicaid Services (CMS), HHS.

ACTION:
Notice of extension of comment period for proposed rule.

SUMMARY:

This document extends the comment period for a proposed rule, “Medicare Program; Prospective Payment System for Inpatient Psychiatric Facilities” published in the Federal Register (68 FR 66920) on November 28, 2003. That rule proposes a prospective payment system for Medicare payment of inpatient hospital services furnished in psychiatric hospitals and psychiatric units of acute care hospitals. The prospective payment system described in the proposed rule would replace the current reasonable cost-based payment system under the Tax Equity and Fiscal Responsibility Act of 1992 (TEFRA). The comment period that would have closed on January 27, 2004 is extended 30 days.

DATES:
The comment period is extended to 5 p.m. on February 26, 2004.

ADDRESSES:
In commenting, please refer to file code CMS-1213-P. Because of staff and resource limitations, we cannot accept comments by facsimile (FAX) transmission. Mail written comments (one original and two copies) to the following address ONLY: Centers for Medicare & Medicaid Services, Department of Health and Human Services, Attention: CMS-1213-P, P.O. Box 8012, Baltimore, MD 21244-8012.
Please allow sufficient time for mailed comments to be received timely in the event of delivery delays.
If you prefer, you may deliver (by hand or courier) your written comments (one original and two copies) to one of the following addresses:

Room 445-G, Hubert H. Humphrey Building, 200 Independence Avenue, SW., Washington, DC 20201, or

Room C5-14-03, 7500 Security Boulevard, Baltimore, MD 21244-1850.

(Because access to the interior of the HHH Building is not readily available to persons without Federal Government identification, commenters are encouraged to leave their comments in the CMS drop slots located in the main lobby of the building. A stamp-in clock is available for persons wishing to retain a proof of filing by stamping in and retaining an extra copy of the comments being filed.) Comments mailed to the addresses indicated as appropriate for hand or courier delivery may be delayed and could be considered late.

For information on viewing public comments, see the beginning of the SUPPLEMENTARY INFORMATION section.

FOR FURTHER INFORMATION CONTACT:
Janet Samen, (410) 786-4533.

SUPPLEMENTARY INFORMATION:

Inspection of Public Comments: Comments received timely will be available for public inspection as they are received, generally beginning approximately 4 weeks after publication of a document, at the headquarters of the Centers for Medicare & Medicaid Services, 7500 Security Boulevard, Baltimore, Maryland 21244, Monday through Friday of each week from 8:30 a.m. to 4 p.m. To schedule an appointment to view public comments, phone (410) 786-9994.

Copies: To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 (or toll-free at 1-888-293-6498) or by faxing to (202) 512-2250. The cost for each copy is $10. As an alternative, you can view and photocopy the Federal Register document at most libraries designated as Federal Depository Libraries and at many other public and academic libraries throughout the country that receive the Federal Register.
This Federal Register document is also available from the Federal Register online database through GPO Access, a service of the U.S. Government Printing Office. The Web site address is: http://www.access.gpo.gov/nara/index.html.

On November 28, 2003, we issued a proposed rule in the Federal Register (68 FR 66920) proposing a prospective payment system for psychiatric hospitals and psychiatric units. The proposed rule would implement section 124 of the Medicare, Medicaid, and SCHIP Balanced Budget Refinement Act of 1999 (BBRA), which requires the implementation of a per diem prospective payment system for inpatient hospital services of psychiatric hospitals and psychiatric units. The proposed prospective payment system would replace the reasonable cost-based payment system currently in effect. We announced that the public comment period for the proposed rule would close at 5 p.m. on January 27, 2004.
The proposed rule, “Medicare Program; Prospective Payment System for Inpatient Psychiatric Facilities,” is unique in that it proposes, for the first time, a completely new payment system for the inpatient hospital services of psychiatric hospitals and psychiatric units of acute care hospitals. Due to the complexity and scope of this proposed rule and because many people have requested additional time to examine the proposed rule so that they may provide meaningful comments on its provisions, we have decided to extend the comment period for an additional 30 days. This document announces the extension of the public comment period to February 26, 2004.

Authority:
Secs. 1102 and 1871 of the Social Security Act (42 U.S.C. 1302 and 1395hh).

(Catalog of Federal Domestic Assistance Program No. 93.773, Medicare—Hospital Insurance; and Program No. 93.774, Medicare—Supplementary Medical Insurance Program)

Dated: January 23, 2004.
Dennis G. Smith,
Acting Administrator, Centers for Medicare & Medicaid Services.
Approved: January 26, 2004.
Tommy G. Thompson,
Secretary.

[FR Doc. 04-1945 Filed 1-27-04; 11:10 am]
BILLING CODE 4120-01-P